U.S.-CHINA ECONOMIC AND SECURITY REVIEW COMMISSION

Notice of Open Meetings To Prepare the 2016 Annual Report to Congress

Advisory Committee: U.S.-China Economic and Security Review Commission.

ACTION: Notice of open meetings to be held in Washington, DC to review and edit drafts of the 2016 Annual Report to Congress on the following dates: July 13-14, August 10-11, September 14-15, and October 5-6, 2016.

SUMMARY: Notice is hereby given of meetings of the U.S.-China Economic and Security Review Commission.

Name: Dennis Shea, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions . . .”

Purpose of Meetings: Pursuant to this mandate, members of the Commission will meet in Washington, DC on July 13-14, August 10-11, September 14-15, and October 5-6, 2016 to review and edit drafts of the 2016 Annual Report to Congress.

The Commission is subject to the Federal Advisory Committee Act (FACA) with the enactment of the Science, State, Justice, Commerce and Related Agencies Appropriations Act, 2006 that was signed into law on November 22, 2005 (Public Law 109-108). In accordance with FACA, the Commission's meeting to make decisions concerning the substance and recommendations of its 2016 Annual Report to Congress are open to the public.

Topics To Be Discussed: The Commissioners will be considering draft report sections addressing the following topics:

• U.S.-China Economic and Trade Relations, including: Year in Review, Economics and Trade; State-Owned Enterprises, Overcapacity, and China's Market Economy Status; and 13th Five-Year Plan.

• U.S.-China Security Relations, including: Year in Review, Security and Foreign Affairs; China's Expeditionary and Force Projection Capabilities; and China's Intelligence Services and Espionage Threats to the United States.

• China and the world, including: China and South Asia, China and Taiwan, China and Hong Kong, and China and North Korea.

• China and the U.S. Rebalance to Asia.

Dates, Times, and Room Locations (Eastern Daylight Time):

• Wednesday and Thursday, July 13-14, 2016 (9:00 a.m. to 5:00 p.m.)—Room 383

• Wednesday and Thursday, August 10-11, 2016 (9:00 a.m. to 5:00 p.m.)—Room 231

• Wednesday and Thursday, September 14-15, 2016 (9:00 a.m. to 5:00 p.m.)—Room 231

• Wednesday and Thursday, October 5-6, 2016 (9:00 a.m. to 5:00 p.m.)—Room 231

ADDRESSES: All report review-editing sessions will be held in The Hall of the States (North Bldg., 2nd Floor), located at 444 North Capitol Street NW., Washington, DC 20001.

Public seating is limited and will be available on a “first-come, first-served” basis. Advanced reservations are not required. All participants must register at the front desk of the lobby.

Required Accessibility Statement: The entirety of these Commission editorial and drafting meetings will be open to the public. The Commission may recess the public editorial/drafting sessions to address administrative issues in closed session.

The open meetings will also be adjourned around noon for a lunch break. At the beginning of the lunch break, the Chairman will announce what time the Annual Report review and editing session will reconvene.

FOR FURTHER INFORMATION CONTACT: Rickisha Berrien-Lopez, Human Resources and Administrative Specialist, U.S.-China Economic and Security Review Commission, 444 North Capitol Street NW., Suite 602, Washington, DC 20001; Phone: (202) 624-1454; Email: rberrien-lopez@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: July 6, 2016.
Michael Danis,
Executive Director, U.S.-China Economic and Security Review Commission.

[FR Doc. 2016-16415 Filed 7-11-16; 8:45 am]

BILLING CODE 1137-01-P